DEPARTMENT OF DEFENSE

Department of the Air Force

[Docket ID: USAF-2021-HQ-0004]

Submission for OMB Review; Comment Request

AGENCY: Department of the Air Force, Department of Defense (DoD).

ACTION: 30-Day information collection notice.

SUMMARY: The DoD has submitted to OMB for clearance the following proposal for collection of information under the provisions of the Paperwork Reduction Act.

DATES: Consideration will be given to all comments received by October 18, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION: Title; Associated Form; and OMB Number: Department of Defense National Defense Science and Engineering Graduate (NDSEG) Fellowships Program; OMB Control Number 0701-0154.

Type of Request: Regular.

Number of Respondents: 3,577.

Responses per Respondent: 1.

Annual Responses: 3,577.

Average Burden per Response: 12 hours.

Annual Burden Hours: 42,924 hours.

Needs and Uses: The National Defense Science and Engineering (S&E) Graduate (NDSEG) Fellowships program provides 3-year fellowships to students enrolled in Ph.D. programs of interest to DoD. Awards are under the authority of 10 U.S.C. 2191. The request for applications is necessary to screen applicants and to evaluate and select students to award fellowships. Information is used by the American Society for Engineering Education (ASEE), the contractor selected to administer the program, to down-select the eligible applicants by means of a peer review panel. The information is also used by scientists of the Air Force, Army, and Navy, to make the final selection of awardees.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 13, 2021.
Aaron T. Siegel,
Alternate OSD Federal Register Liaison Officer, Department of Defense.

[FR Doc. 2021-20142 Filed 9-16-21; 8:45 am]

BILLING CODE 5001-06-P